NUCLEAR REGULATORY COMMISSION

10 CFR Parts 1, 37, 40, 50, 55, 74, and 75

RIN 3150-AJ60

[NRC-2015-0105]

Miscellaneous Corrections

AGENCY: Nuclear Regulatory Commission.

ACTION: Final rule.

SUMMARY: The U.S. Nuclear Regulatory Commission (NRC) is amending its regulations to make miscellaneous corrections. These changes include updating the name and the phone number of the U.S. Government Publishing Office, updating the address for the National Technical Information Service, correcting typographical errors, correcting misspellings, and correcting references. This document is necessary to inform the public of these non-substantive changes to the NRC's regulations.

DATES: This rule is effective September 2, 2015.

ADDRESSES: Please refer to Docket ID NRC-2015-0105 when contacting the NRC about the availability of information for this final rule. You may obtain publicly-available information related to this final rule by any of the following methods:

• Federal Rulemaking Web site: Go to http://www.regulations.gov and search for Docket ID NRC-2015-0105. Address questions about NRC dockets to Carol Gallagher; telephone: 301-415-3463; email: Carol.Gallagher@nrc.gov. For technical questions, please contact the individual listed in the FOR FURTHER INFORMATION CONTACT section of this final rule.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced.

• NRC's PDR: You may examine and purchase copies of public documents at the NRC's PDR, Room O1-F21, One White Flint North, 11555 Rockville Pike, Rockville, Maryland 20852.

FOR FURTHER INFORMATION CONTACT: Doris Mendiola, Office of Administration, U.S. Nuclear Regulatory Commission, Washington, DC 20555-0001, telephone: 301-415-3464, email: Doris.Mendiola@nrc.gov.

SUPPLEMENTARY INFORMATION:

I. Introduction

The NRC is amending its regulations in parts 1, 37, 40, 50, 55, 74 and 75 of Title 10 of the Code of Federal Regulations (10 CFR) to make miscellaneous corrections. These changes include updating the name of the U.S. Government Publishing Office, updating the address for the National Technical Information Service, correcting typographical errors, correcting misspellings, and correcting and removing references. This document is necessary to inform the public of these non-substantive changes to the NRC's regulations.

II. Summary of Changes

10 CFR Part 1

Update Office Address. In § 1.3, this final rule removes the old office address for the “National Technical Information Service” and replaces it with the new address “5301 Shawnee Road, Alexandria, VA 22312.”

10 CFR Part 37

Correct Reference. In § 37.23(b)(2), this final rule removes the incorrect reference “§ 37.25(b)” and replaces it with the correct reference “§ 37.25(c).”

10 CFR Part 40

Correct Typographical Error. In § 40.61(a)(2), this final rule removes the first use of the word “or” and replaces it with the word “of.”

10 CFR Part 50

Update Office Title and Telephone Number. In Footnote 4 of § 50.49, this final rule removes the old office title for the “U.S. Government Printing Office” and replaces it with the new office title “U.S. Government Publishing Office.” This final rule also removes the telephone number “202-275-2060” and replaces it with “202-512-1800.”

Remove Reference. In § 50.54, this final rule removes the incorrect reference “(q)” from the introductory text.

Return Omitted Information, Update Access Information, Correct Reference. In § 50.55a, this final rule includes a document that was previously approved for incorporation by reference but inadvertently omitted from the list of incorporated documents in § 50.55a(a)(2). The document is the Institute of Electrical and Electronics Engineers (IEEE) Standard 279-1968, “Proposed IEEE Criteria for Nuclear Power Plant Protection Systems,” which was approved for incorporation by reference in 1972 (37 FR 17021; August 24, 1972). The documents currently listed in § 50.55a(a)(2)(i)-(iii) are moved to § 50.55a(a)(2)(ii)-(iv), and IEEE Standard 279-1968 is added back as § 50.55a(a)(2)(i), so that the documents are listed in chronological order. The access information in new § 50.55a(2)(iv) has been updated. This final rule also updates § 50.55a(h)(2) to reference the correct standards.

10 CFR Part 55

Update Office Title and Address. In Footnote 1 of § 55.40, this final rule removes the old office title “U.S. Government Printing Office” and replaces it with the new office title “U.S. Government Publishing Office.” This final rule also removes the old office address for the National Technical Information Service and replaces it with the new address “5301 Shawnee Road, Alexandria, VA 22312.”

10 CFR Part 74

Correct Spelling. In § 74.4, this final rule corrects the definition of Tamper-safing by removing the misspelled word “previouly” and replacing it with the correct word “previously.”

Correct Typographical Error. In § 74.55(b)(2), this final rule removes the incorrect reference “Category BI items” and replaces it with the correct reference “Category IB items.”

10 CFR Part 75

Correct References. In § 75.6(d), this final rule revises the second column of the table by removing the incorrect references “75.11(c)(1),” “75.11(c)(2),” “75.11(c)(3),” “75.11(c)(4),” “75.11(c)(5),” “75.11(c)(6),” and “75.11(c)(7)” and replacing them with the correct references “75.11(b)(1),” “75.11(b)(2),” “75.11(b)(3),” “75.11(b)(4),” “75.11(b)(5),” “75.11(b)(6),” and “75.11(b)(7).”

III. Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on the amendments, because notice and opportunity for comment are unnecessary. The amendments will have no substantive impact and are of a minor and administrative nature dealing with corrections to certain CFR sections related only to management, organization, procedure, and practice. Specifically, the revisions correct typographical errors, misspellings, and incorrect references.

The Commission is exercising its authority under 5 U.S.C. 553(b)(3)(B) to publish these amendments as a final rule. The amendments are effective September 2, 2015. These amendments do not require action by any person or entity regulated by the NRC. Also, the final rule does not change the substantive responsibilities of any person or entity regulated by the NRC.

IV. Environmental Impact: Categorical Exclusion

The NRC has determined that this final rule is the type of action described in 10 CFR 51.22(c)(2), which categorically excludes from environmental review rules that are corrective or of a minor, nonpolicy nature and do not substantially modify existing regulations. Therefore, neither an environmental impact statement nor an environmental assessment has been prepared for this rule.

V. Paperwork Reduction Act Statement

This final rule does not contain information collection requirements and, therefore, is not subject to the Paperwork Reduction Act of 1995 (44 U.S.C. 3501 et seq.).

Public Protection Notification

The NRC may not conduct or sponsor, and a person is not required to respond to, a request for information or an information collection requirement unless the requesting document displays a currently valid Office of Management and Budget control number.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Backfitting and Issue Finality

The NRC has determined that the corrections in this final rule do not constitute backfitting and are not inconsistent with any of the issue finality provisions in 10 CFR part 52. The revisions are non-substantive in nature, including correcting typographical errors, correcting misspellings, and correcting and removing references. They impose no new requirements and make no substantive changes to the regulations. The corrections do not involve any provisions that would impose backfits as defined in 10 CFR chapter I, or would be inconsistent with the issue finality provisions in 10 CFR part 52. For these reasons, the issuance of the rule in final form would not constitute backfitting or represent an inconsistency with any of the issue finality provisions in 10 CFR part 52. Therefore, the NRC has not prepared any additional documentation for this correction rulemaking addressing backfitting or issue finality.

List of Subjects

10 CFR Part 1

Organization and functions (Government Agencies).

10 CFR Part 37

Byproduct material, Criminal penalties, Export, Hazardous materials transportation, Import, Licensed material, Nuclear materials, Reporting and recordkeeping requirements, Security measures.

10 CFR Part 40

Criminal penalties, Government contracts, Hazardous materials transportation, Nuclear materials, Reporting and recordkeeping requirements, Source material, Uranium.

10 CFR Part 50

Antitrust, Classified information, Criminal penalties, Fire protection, Incorporation by reference, Intergovernmental relations, Nuclear power plants and reactors, Radiation protection, Reactor siting criteria, Reporting and recordkeeping requirements.

10 CFR Part 55

Criminal penalties, Manpower training programs, Nuclear power plants and reactors, Reporting and recordkeeping requirements.

10 CFR Part 74

Accounting, Criminal penalties, Hazardous materials transportation, Material control and accounting, Nuclear materials, Packaging and containers, Radiation protection, Reporting and recordkeeping requirements, Scientific equipment, Special nuclear material.

10 CFR Part 75

Criminal penalties, Intergovernmental relations, Nuclear materials, Nuclear power plants and reactors, Reporting and recordkeeping requirements, Security measures.

For the reasons set out in the preamble and under the authority of the Atomic Energy Act of 1954, as amended; the Energy Reorganization Act of 1974, as amended; and 5 U.S.C. 552 and 553, the NRC is adopting the following amendments to 10 CFR parts 1, 37, 40, 50, 55, 74, and 75.

PART 1—STATEMENT OF ORGANIZATION AND GENERAL INFORMATION

1. The authority citation for part 1 continues to read as follows:

Authority: Atomic Energy Act secs. 23, 29, 161, 191 (42 U.S.C. 2033, 2039, 2201, 2241); Energy Reorganization Act secs. 201, 203, 204, 205, 209 (42 U.S.C. 5841, 5843, 5844, 5845, 5849); 5 U.S.C. 552, 553; Reorganization Plan No. 1 of 1980, 45 FR 40561, June 16, 1980.

2. In § 1.3, revise paragraph (c), last sentence, to read as follows:

§ 1.3 Source of additional information.

* * * * *

(c) * * * Final opinions made in the adjudication of cases are published in “Nuclear Regulatory Commission Issuances,” and are available on a subscription basis from the National Technical Information Service, 5301 Shawnee Road, Alexandria, VA 22312.

PART 37—PHYSICAL PROTECTION OF CATEGORY 1 AND CATEGORY 2 QUANTITIES OF RADIOACTIVE MATERIAL

3. The authority citation for part 37 continues to read as follows:

Authority: Atomic Energy Act secs. 53, 81, 103, 104, 147, 148, 149, 161, 182, 183, 223, 234 (42 U.S.C. 2073, 2111, 2133, 2134, 2167, 2168, 2169, 2201a., 2232, 2233, 2273, 2282).

4. In § 37.23, revise paragraph (b)(2), last sentence, to read as follows:

§ 37.23 Access authorization program requirements.

* * * * *

(b) * * *

(2) * * * The licensee shall recertify that the reviewing official is deemed trustworthy and reliable every 10 years in accordance with § 37.25(c).

* * * * *

PART 40—DOMESTIC LICENSING OF SOURCE MATERIAL

5. The authority citation for part 40 continues to read as follows:

Authority: Atomic Energy Act secs. 11(e)(2), 62, 63, 64, 65, 81, 161, 181, 182, 183, 186, 193, 223, 234, 274, 275 (42 U.S.C. 2014(e)(2), 2092, 2093, 2094, 2095, 2111, 2113, 2114, 2201, 2231, 2232, 2233, 2236, 2243, 2273, 2282, 2021, 2022); Energy Reorganization Act secs. 201, 202, 206 (42 U.S.C. 5841, 5842, 5846); Government Paperwork Elimination Act sec. 1704 (44 U.S.C. 3504 note); Energy Policy Act of 2005, Pub. L. 109-59, 119 Stat. 594 (2005).

Section 40.7 also issued under Energy Reorganization Act sec. 211, Pub. L. 95-601, sec. 10, as amended by Pub. L. 102-486, sec. 2902 (42 U.S.C. 5851). Section 40.31(g) also issued under Atomic Energy Act sec. 122 (42 U.S.C. 2152). Section 40.46 also issued under Atomic Energy Act sec. 184 (42 U.S.C. 2234). Section 40.71 also issued under Atomic Energy Act sec. 187 (42 U.S.C. 2237).

6. In § 40.61, revise paragraph (a)(2) to read as follows:

§ 40.61 Records.

(a) * * *

(2) The licensee who transferred the material shall retain each record of transfer of source or byproduct material until the Commission terminates each license that authorizes the activity that is subject to the recordkeeping requirement.

* * * * *

PART 50—DOMESTIC LICENSING OF PRODUCTION AND UTILIZATION FACILITIES

7. The authority citation for part 50 continues to read as follows:

Authority: Atomic Energy Act secs. 11, 102, 103, 104, 105, 147, 149, 161, 181, 182, 183, 186, 189, 223, 234 (42 U.S.C. 2014, 2132, 2133, 2134, 2135, 2167, 2169, 2201, 2231, 2232, 2233, 2236, 2239, 2273, 2282); Energy Reorganization Act secs. 201, 202, 206 (42 U.S.C. 5841, 5842, 5846); Nuclear Waste Policy Act sec. 306 (42 U.S.C. 10226); Government Paperwork Elimination Act sec. 1704 (44 U.S.C. 3504 note); Energy Policy Act of 2005, Pub. L. 109-58, 119 Stat. 194 (2005). Section 50.7 also issued under Pub. L. 95-601, sec. 10, as amended by Pub. L. 102-486, sec. 2902 (42 U.S.C. 5851). Section 50.10 also issued under Atomic Energy Act secs. 101, 185 (42 U.S.C. 2131, 2235); National Environmental Policy Act sec. 102 (42 U.S.C. 4332). Sections 50.13, 50.54(d), and 50.103 also issued under Atomic Energy Act sec. 108 (42 U.S.C. 2138).

Sections 50.23, 50.35, 50.55, and 50.56 also issued under Atomic Energy Act sec. 185 (42 U.S.C. 2235). Appendix Q also issued under National Environmental Policy Act sec. 102 (42 U.S.C. 4332). Sections 50.34 and 50.54 also issued under sec. 204 (42 U.S.C. 5844). Sections 50.58, 50.91, and 50.92 also issued under Pub. L. 97-415 (42 U.S.C. 2239). Section 50.78 also issued under Atomic Energy Act sec. 122 (42 U.S.C. 2152). Sections 50.80-50.81 also issued under Atomic Energy Act sec. 184 (42 U.S.C. 2234).

8. In § 50.49, revise footnote 4 to read as follows:

§ 50.49 Environmental qualification of electric equipment important to safety for nuclear power plants.

* * * * *

⁴ Specific guidance concerning the types of variables to be monitored is provided in Revision 2 of Regulatory Guide 1.97, “Instrumentation for Light-Water-Cooled Nuclear Power Plants to Assess Plant and Environs Conditions During and Following an Accident.” Copies of the Regulatory Guide may be purchased through the U.S. Government Publishing Office by calling 202-512-1800 or by writing to the U.S. Government Publishing Office, P.O. Box 37082, Washington, DC 20013-7082.

9. In § 50.54, revise the last sentence of the introductory text to read as follows:

§ 50.54 Conditions of licenses.

* * * The following paragraphs with the exception of paragraph (r), (s), and (u) of this section are conditions in every combined license issued under part 52 of this chapter, provided, however, that paragraphs (i) introductory text, (i)(1), (j), (k), (l), (m), (n), (w), (x), (y), (z), and (hh) of this section are only applicable after the Commission makes the finding under § 52.103(g) of this chapter.

* * * * *

10. In § 50.55a, revise paragraphs (a)(2)(i) through (iii), add paragraph (a)(2)(iv), and revise paragraph (h)(2) to read as follows:

§ 50.55a Codes and standards.

(a) * * *

(2) * * *

(i) IEEE standard 279-1968. (IEEE Std 279-1968), “Proposed IEEE Criteria for Nuclear Power Plant Protection Systems” (Approval Date: August 30, 1968), referenced in paragraph (h)(2) of this section. (Copies of this document may be purchased from IHS Global, 15 Inverness Way East, Englewood, CO 80112; https://global.ihs.com.)

(ii) IEEE standard 279-1971. (IEEE Std 279-1971), “Criteria for Protection Systems for Nuclear Power Generating Stations” (Approval Date: June 3, 1971), referenced in paragraph (h)(2) of this section.

(iii) IEEE standard 603-1991. (IEEE Std 603-1991), “Standard Criteria for Safety Systems for Nuclear Power Generating Stations” (Approval Date: June 27, 1991), referenced in paragraphs (h)(2) and (h)(3) of this section. All other standards that are referenced in IEEE Std 603-1991 are not approved for incorporation by reference.

(iv) IEEE standard 603-1991, correction sheet. (IEEE Std 603-1991 correction sheet), “Standard Criteria for Safety Systems for Nuclear Power Generating Stations, Correction Sheet, Issued January 30, 1995,” referenced in paragraphs (h)(2) and (h)(3) of this section. (This correction sheet is available from IEEE at http://standards.ieee.org/findstds/errata/).

* * * * *

(h) * * *

(2) Protection systems. For nuclear power plants with construction permits issued after January 1, 1971, but before May 13, 1999, protection systems must meet the requirements in IEEE Std 279-1968, “Proposed IEEE Criteria for Nuclear Power Plant Protection Systems,” or the requirements in IEEE Std 279-1971, “Criteria for Protection Systems for Nuclear Power Generating Stations,” or the requirements in IEEE Std 603-1991, “Criteria for Safety Systems for Nuclear Power Generating Stations,” and the correction sheet dated January 30, 1995. For nuclear power plants with construction permits issued before January 1, 1971, protection systems must be consistent with their licensing basis or may meet the requirements of IEEE Std. 603-1991 and the correction sheet dated January 30, 1995.

* * * * *

PART 55—OPERATORS' LICENSES

11. The authority citation for part 55 continues to read as follows:

Authority: Atomic Energy Act secs. 107, 161, 181, 182, 68 Stat. 939, 948, 953, 223, 234 (42 U.S.C. 2137, 2201, 2231, 2232, 2273, 2282); Energy Reorganization Act secs. 201, 202 (42 U.S.C. 5841, 5842); Government Paperwork Elimination Act sec. 1704 (44 U.S.C. 3504 note).

Sections 55.41, 55.43, 55.45, and 55.59 also issued under Nuclear Waste Policy Act sec. 306 (42 U.S.C. 10226).

Section 55.61 also issued under Atomic Energy Act secs. 186, 187 (42 U.S.C. 2236, 2237).

12. In § 55.40, revise footnote 1 to read as follows:

§ 55.40 Implementation.

* * * * *

¹Copies of NUREGs may be purchased from the Superintendent of Documents, U.S. Government Publishing Office, P.O. Box 38082, Washington, DC 20402-9328. Copies are also available from the National Technical Information Service, 5301 Shawnee Road, Alexandria, VA 22312. A copy is available for inspection and/or copying in the NRC Public Document Room, One White Flint North, 11555 Rockville Pike (0-1F23), Rockville, MD.

PART 74—MATERIAL CONTROL AND ACCOUNTING OF SPECIAL NUCLEAR MATERIAL

13. The authority citation for part 74 continues to read as follows:

Authority: Atomic Energy Act secs. 53, 57, 161, 182, 183, 223, 234, 1701 (42 U.S.C. 2073, 2077, 2201, 2232, 2233, 2273, 2282, 2297f); Energy Reorganization Act secs. 201, 202, 206 (42 U.S.C. 5841, 5842, 5846); Government Paperwork Elimination Act sec. 1704 (44 U.S.C. 3504 note).

14. In § 74.4, the definition of “tamper-safing” is revised to read as follows:

§ 74.4 Definitions.

* * * * *

Tamper-safing means the use of devices on containers or vaults in a manner and at a time that ensures a clear indication of any violation of the integrity of previously made measurements of special nuclear material within the container or vault.

* * * * *

15. In § 74.55, revise paragraph (b)(2) to read as follows:

§ 74.55 Item monitoring.

* * * * *

(b) * * *

(2) Three working days for Category IA items and seven calendar days for Category IB items located elsewhere in the MAA, except for reactor components measuring at least one meter in length and weighing in excess of 30 kilograms for which the time interval shall be 30 days;

* * * * *

PART 75—SAFEGUARDS ON NUCLEAR MATERIAL-IMPLEMENTATION OF US/IAEA AGREEMENT

16. The authority citation for part 75 continues to read as follows:

Authority: Atomic Energy Act secs. 53, 63, 103, 104, 122, 161, 223, 234 (42 U.S.C. 2073, 2093, 2133, 2134, 2152, 2201, 2273, 2282); Energy Reorganization Act sec. 201 (42 U.S.C. 5841); Government Paperwork Elimination Act sec. 1704 (44 U.S.C. 3504 note).

Section 75.4 also issued under Nuclear Waste Policy Act secs. 135 (42 U.S.C. 10155, 10161).

17. In § 75.6, revise paragraph (d) to read as follows:

§ 75.6 Facility and location reporting.

* * * * *

(d) Locations—Specific information regarding locations is to be reported as follows:

Item | Section | Manner of delivery
Fuel cycle-related research and development information | 75.11(b)(1) | As specified by printed instructions for preparation of DOC/NRC Form AP-1 and associated forms.
Fuel cycle-related manufacturing and construction information | 75.11(b)(2) | As specified by printed instructions for preparation of DOC/NRC Form AP-1 and associated forms.
Mines and concentration plant information | 75.11(b)(3) | As specified by printed instructions for preparation of DOC/NRC Form AP-1 and associated forms.
Impure source material possession information | 75.11(b)(4) | As specified by printed instructions for preparation of DOC/NRC Form AP-1 and associated forms.
Imports and exports of source material for non-nuclear end uses | 75.11(b)(5) | As specified by printed instructions for preparation of DOC/NRC Form AP-1 and associated forms.
IAEA safeguards-exempted and terminated nuclear material information | 75.11(b)(6) | As specified by printed instructions for preparation of DOC/NRC Form AP-1 and associated forms.
Imports and exports of non-nuclear material and equipment | 75.11(b)(7) | As specified by printed instructions for preparation of DOC/NRC Form AP-1 and associated forms.

Dated at Rockville, Maryland, this 28th day of July, 2015.
For the Nuclear Regulatory Commission.
Cindy Bladey,
Chief, Rules, Announcements, and Directives Branch, Division of Administrative Services, Office of Administration.

[FR Doc. 2015-18863 Filed 7-31-15; 8:45 am]

BILLING CODE 7590-01-P